DEPARTMENT OF HOMELAND SECURITY

Coast Guard

33 CFR Parts 161 and 164

[Docket No. USCG-2005-21869]

RIN 1625-AA99

Vessel Requirements for Notices of Arrival and Departure, and Automatic Identification System

AGENCY: Coast Guard, DHS.

ACTION: Correcting amendments.

SUMMARY: The Coast Guard published a final rule in the Federal Register on January 30, 2015, to expand the applicability of notice of arrival and automatic identification system (AIS) requirements and make related amendments regarding AIS. In that rule there is an error in the definition of Vessel Traffic Service (VTS) User and one in the AIS applicability regulation. This rule corrects those errors.

DATES: This rule is effective April 1, 2015.

FOR FURTHER INFORMATION CONTACT: If you have questions on this rule, call or email call or email Mr. Jorge Arroyo, Office of Navigation Systems (CG-NAV-2), Coast Guard; telephone 202-372-1563, email Jorge.Arroyo@uscg.mil. If you have questions on viewing or submitting material to the docket, call Ms. Cheryl Collins, Program Manager, Docket Operations, telephone 202-366-9826.

SUPPLEMENTARY INFORMATION:

Viewing Documents Associated With This Rule

To view the final rule published on January 30, 2015 (80 FR 5282), or other documents in the docket for this rulemaking, go to www.regulations.gov, type the docket number, USCG-2005-21869, in the “SEARCH” box and click “SEARCH.” Click on “Open Docket Folder” in the first item listed. Use the following link to go directly to the docket: www.regulations.gov/#!docketDetail;D=USCG-2005-21869.

Background

On January 30, 2015, the Coast Guard published a final rule to expand the applicability of notice of arrival and automatic identification system (AIS) requirements and make related amendments regarding AIS. 80 FR 5282. We have identified two errors in this correction document.

In the final rule, we revised the definition of “VTS User” (Vessel Traffic Service User) in 33 CFR 161.2. 80 FR 5334. Paragraph (3) of that definition should only have included vessels required to install and use a Coast Guard type-approved AIS, instead the definition included all vessels equipped with a Coast Guard type-approved AIS whether it is required or not. The definition published in the final rule is inconsistent with the discussion in the preambles of both the NPRM and final rule which encourage all vessel owners to use AIS. 73 FR 76295, 76301, December 16, 2008; and 80 FR 5311, Jan. 30, 2015. The definition of “VTS User” in the final rule is also inconsistent with our authority to impose VTS User requirements.

Also in the final rule at paragraph (b)(1)(iii) of 33 CFR 164.46, we omitted the word “self-propelled” when describing vessels certificated to carry more than 150 passengers that are required to have on board a properly installed, operational Coast Guard type-approved AIS Class A device. 80 FR 5335. As indicated in the final rule preamble (80 FR 5307, January 30, 2015) and the NPRM proposed rule (73 FR 76317, December 16, 2008), we intended to limit the applicability of § 164.46(b)(1)(iii) to self-propelled vessels.

Need for Corrections

As discussed above, the published definition of “VTS User” in 33 CFR 161.2 and AIS applicability paragraph (b)(1)(iii) in § 164.46 each contain an error which is misleading and needs to be corrected.

List of Subjects

33 CFR Part 161

Harbors, Navigation (water), Reporting and recordkeeping requirements, Vessels, Waterways.

33 CFR Part 164

Incorporation by reference, Marine safety, Navigation (water), Reporting and recordkeeping requirements, Waterways.

Accordingly, 33 CFR parts 161 and 164 are corrected by making the following correcting amendments:

PART 161—VESSEL TRAFFIC MANAGEMENT

1. The authority citation for part 161 continues to read as follows:

Authority: 33 U.S.C. 1223, 1231; 46 U.S.C. 70114, 70119; Pub. L. 107-295, 116 Stat. 2064; Department of Homeland Security Delegation No. 0170.1.

2. In § 161.2, add the word “required” before the words “Coast Guard” in paragraph (3) of the definition of “VTS User.”

PART 164-NAVIGATION SAFETY REGULATIONS

3. The authority citation for part 164 continues to read as follows:

Authority: 33 U.S.C. 1222(5), 1223, 1231; 46 U.S.C. 2103, 3703; E.O. 12234, 45 FR 58801, 3 CFR, 1980 Comp., p. 277; Department of Homeland Security Delegation No. 0170.1. Sec. 164.13 also issued under 46 U.S.C. 8502. Sec. 164.46 also issued under 46 U.S.C. 70114 and Sec. 102 of Pub. L. 107-295. Sec. 164.61 also issued under 46 U.S.C. 6101.

4. In § 164.46(b)(1)(iii), add the word “self-propelled” before the word “vessel”.

Dated: March 25, 2015.
K. Kroutil,
Chief, Office of Regulations and Administrative Law, U.S. Coast Guard.

[FR Doc. 2015-07228 Filed 3-31-15; 8:45 am]

BILLING CODE 9110-04-P